FARM CREDIT SYSTEM INSURANCE CORPORATION

Farm Credit System Insurance Corporation Board; Regular Meeting

AGENCY: Farm Credit System Insurance Corporation.

SUMMARY: Notice is hereby given of the regular meeting of the Farm Credit System Insurance Corporation Board (Board).

DATES: Date and Time: The meeting of the Board will be held at the offices of the Farm Credit Administration in McLean, Virginia, on April 11, 2013, from 1:00 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance.

The matters to be considered at the meeting are:

Closed Session

• Confidential Report on Farm Credit System Performance

Open Session

A. Approval of Minutes

• January 24, 2013

B. Business Reports

• FCSIC Financial Reports

• Report on Insured and Other Obligations

• Quarterly Report on Annual Performance Plan

C. New Business

• Consideration of Policy Statement Concerning Assistance to Troubled Farm Credit System Institutions

• Presentation of 2012 Audit Results by External Auditor Clifton Larson Allen L.L.P.

Executive Session

• Executive Session of the FCSIC Board Audit Committee with the External Auditor

Dated: March 29, 2013.
Dale L. Aultman,
Secretary, Farm Credit System Insurance Corporation Board.

[FR Doc. 2013-07759 Filed 4-2-13; 8:45 am]

BILLING CODE 6710-01-P